FEDERAL COMMUNICATIONS COMMISSION

47 CFR Chapter I

[CC Docket No. 01-92; DA 05-1553]

Developing a Unified Intercarrier Compensation Regime

AGENCY: Federal Communications Commission.

ACTION: Proposed rule.

SUMMARY: By this document, the Wireline Competition Bureau extends the reply comment deadline to July 20, 2005. Due to the voluminous record received in the initial round of comments, the Bureau is concerned that it may be extremely difficult for parties to review and respond to the comments by the June 22, 2005 reply comment deadline. In the interest of developing a thorough and complete record in this proceeding, the Bureau, on its own motion, hereby extends the reply comment deadline. This extension should allow parties adequate time to review and respond to the voluminous record.

DATES: Reply comments are due on or before July 20, 2005.

ADDRESSES: You may submit comments, identified by CC Docket No. 01-92, by any of the following methods:

• Federal eRulemaking Portal: http://www.regulations.gov. Follow the instructions for submitting comments.

• Federal Communications Commission's Web site: http://www.fcc.gov. Follow the instructions for submitting comments on the Electronic Comment Filing System (ECFS) / http://www.fcc.gov/cgb/ecfs/.

• Hand Delivery/Courier: The Commission's contractor, Natek, Inc., will receive hand-delivered or messenger-delivered paper filings for the Commission's Secretary at 236 Massachusetts Avenue, NE., Suite 110, Washington, DC 20002.

—The filing hours at this location are 8 a.m. to 7 p.m.

—All hand deliveries must be held together with rubber bands or fasteners.

—Any envelopes must be disposed of before entering the building.

—Commercial overnight mail (other than U.S. Postal Service Express Mail and Priority Mail) must be sent to 9300 East Hampton Drive, Capitol Heights, MD 20743.

• People with Disabilities: Contact the FCC to request reasonable accommodations (accessible format documents, sign language interpreters, CART, etc.) by e-mail: FCC504@fcc.gov or phone: 202-418-0530 or TTY: 202-418-0432.

For detailed instructions on submitting comments and additional information on the rulemaking process, see the SUPPLEMENTARY INFORMATION section of this document.

FOR FURTHER INFORMATION CONTACT: Victoria Goldberg, Wireline Competition Bureau, Pricing Policy Division, (202) 418-7353 or via the Internet at victoria.goldberg@fcc.gov.

SUPPLEMENTARY INFORMATION: This is a summary of the Commission's Order in CC Docket No. 01-92, adopted on May 31, 2005, and released on May 31, 2005. The complete text of this Order is available for public inspection Monday through Thursday from 8 a.m. to 4:30 p.m. and Friday from 8 a.m. to 11:30 a.m. in the Commission's Consumer and Governmental Affairs Bureau, Reference Information Center, Room CY-A257, 445 Twelfth Street, SW., Washington, DC 20554. The complete text is also available on the Commission's Internet site at http://www. fcc.gov. Alternative formats are available to persons with disabilities by contacting Brian Millin at (202) 418-7426 or TTY (202) 418-7365. The complete text of the Order may be purchased from the Commission's duplicating contractor, Best Copying and Printing, Inc., Room CY-B402, 445 Twelfth Street, SW., Washington, DC 20554, telephone (202) 488-5300, facsimile (202) 488-5563, or e-mail at http://www.bcpiweb.com.

When filing reply comments, parties should reference CC Docket No. 01-92 and conform to the filing procedures referenced in the Order and provided in the Further Notice of Proposed Rulemaking. See Developing a Unified Intercarrier Compensation Regime, CC Docket No. 01-92, Further Notice of Proposed Rulemaking, 70 FR 15030 (March 24, 2005). All pleadings may be filed using the Commission's Electronic Comment Filing System (ECFS) or by filing paper copies. Comments filed through the ECFS can be sent as an electronic file via the Internet to http://www.fcc.gov/e-file/ecfs.html. Commenters must transmit one electronic copy of the comments to each docket or rulemaking number referenced in the caption. In completing the transmittal screen, commenters should include their full name, U.S. Postal Service mailing address, and the applicable docket or rulemaking number, in this case CC Docket No. 01-92. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. If more than one docket or rulemaking number appears in the caption of this proceeding, commenters must submit two additional copies for each additional docket or rulemaking number. All filings must be addressed to the Commission's Secretary, Marlene H. Dortch, Office of the Secretary, Federal Communications Commission, 445 12th Street, SW., Washington, DC 20554. In addition, parties should send a copy of their filings to Victoria Goldberg, Pricing Policy Division, Wireline Competition Bureau, Federal Communications Commission, Room 5-A266, 445 12th Street, SW., Washington, DC 20554. Parties shall also serve one copy with the Commission's copy contractor, Best Copy and Printing, Inc. (BCPI), Portals II, 445 12th Street, SW., Room CY-B402, Washington, DC 20554, (202) 488-5300, or via e-mail to fcc@bcpiweb.com.

Documents in CC Docket No. 01-92 are available for review through the ECFS and are available for public inspection and copying during business hours at the FCC Reference Information Center, Portals II, 445 12th Street, SW., Room CY-A257, Washington, DC 20554. The documents may also be purchased from BCPI, telephone (202) 488-5300, facsimile (202) 488-5563, TTY (202) 488-5562, or by e-mail at fcc@bcpiweb.com.

Synopsis of Order

On February 10, 2005, the Commission adopted a Further Notice of Proposed Rulemaking (FNPRM) in CC Docket No. 01-92. See Developing a Unified Intercarrier Compensation Regime, CC Docket No. 01-92, Further Notice of Proposed Rulemaking, 70 FR 15030 (March 24, 2005). In the FNPRM, the Commission sought further comment on specific proposals for comprehensive intercarrier compensation reform, alternative reform measures, and related issues. The comment deadline was May 23, 2005, and the reply comment deadline is June 22, 2005.

On May 23, 2005, the Commission received over 3,000 pages of comments from more than 100 parties. Due to the voluminous record received, we are concerned that it may be extremely difficult for parties to review and respond to the comments by the June 22, 2005 reply comment deadline. In the interest of developing a thorough and complete record in this proceeding, the Bureau, on its own motion, hereby extends the reply comment deadline to July 20, 2005. This extension should allow parties adequate time to review and respond to the voluminous record. Further, an extension should help avoid the piecemeal submission of arguments and analysis in the form of ex parte submissions after the reply comment deadline. All other filing requirements set forth in the FNPRM remain in effect.

Ordering Clause

Accordingly, it is ordered that, pursuant to the authority contained in sections 4(i) and 303(r) of the Communications Act, as amended, 47 U.S.C. 154(i) and 303(r), and §§ 0.204(b), 0.291, 1.45, and 1.415 of the Commission's rules, 47 CFR 0.204(b), 0.291, 1.45, and 1.415, the deadline for filing reply comments in response to the FNPRM is extended to July 20, 2005.

Federal Communications Commission.
Thomas J. Navin,
Acting Chief, Wireline Competition Bureau.

[FR Doc. 05-11728 Filed 6-14-05; 8:45 am]

BILLING CODE 6712-01-P